POSTAL SERVICE

39 CFR Part 111

Folded Self-Mailers and Unenveloped Mailpieces

AGENCY: Postal Service™.

ACTION: Proposed rule.

SUMMARY: The Postal Service proposes to revise the Mailing Standards of the United States Postal Service, Domestic Mail Manual (DMM®) 201.3.14 to provide standards for creating folded self-mailers (FSM) and other unenveloped mailpieces such as forms, statements, and official notices that will improve processing of these pieces on automated Postal processing equipment.

DATES: We must receive your comments on or before September 14, 2011.

ADDRESSES: Mail or hand-deliver written comments to the manager, Product Classification, U.S. Postal Service®, 475 L'Enfant Plaza, SW., Room 4446, Washington, DC 20260-5015. Interested parties may review and photocopy all written comments at USPS® Headquarters Library, 475 L'Enfant Plaza, SW., 11th Floor N, Washington, DC between 9 a.m. and 4 p.m., Monday through Friday. Email comments that contain the name and address of the commenter, may be sent to: mailingstandards@usps.gov, with a subject line of “FSM.” Faxed comments will not be accepted.

FOR FURTHER INFORMATION CONTACT: Craig Vance at 202-268-7595, or Susan Thomas at 202-268-8069.

SUPPLEMENTARY INFORMATION: In this proposed rule, the Postal Service defines letter-sized FSM, provides detailed standards about the basic elements of all FSM letter-sized pieces, and introduces “panels” as a basic element for constructing FSMs. Additionally, optional creative elements that are currently found in FSM designs, but are not defined in the DMM, are added.

History

To improve the quality of FSMs, the USPS, in collaboration with the mailing industry, implemented a series of tests designed to identify the characteristics of FSMs that could be processed successfully on automated letter-sorting machines. Industry members, recommended through the Mailers Technical Advisory Council (MTAC), Postal Customer Councils (PCC) and the Business Service Network, were asked to provide sample mailpieces for testing. A wide array of mail owners, mail service providers, and vendors participated. The collaboration resulted in a better understanding of the capabilities and needs of the mailing community and enabled the Postal Service to align terms commonly used in the mailing industry with those in the proposed standards. Working together, the Postal Service attempted to strike a balance between innovation and mailpiece machinability.

The outcome of this collaboration is a streamlined framework of proposed standards that aligns with existing letter-mail standards, provides specific information, and clearly defines the characteristics of additional design elements for mailers who create FSM mailpieces. Folded self-mailer maximum dimensions and weights are now proposed to align with other unenveloped letter standards. The dimensions will better delineate envelope and oversized cards when compared to unenveloped-type mail. Improved standards that are clear and easy to understand will encourage consistency and level-set the playing field minimizing delays in production and will help the Postal Service to control costs.

Postal letter sorting equipment is capable of processing letters at the rate of 10 pieces per second. When prepared according to current standards and processed at that speed, some FSM designs have higher rates of damage and cause jams in letter sorting equipment that result in diverting those pieces to flat sorters or manual handling. Both alternate processes are time consuming and costly. This proposed rule provides standards for FSM and other unenveloped letter designs so those mailpieces can better withstand the rigors of letter automation processing.

Testing

The collaborative testing focused on the primary characteristics of folded self-mailers. Four characteristics proved to be the most important—dimensions, basis weight of the paper that forms the outer sheet, closure method, and closure placement.

Testing revealed a strong correlation between higher damage, equipment jam rates, and lower throughput as the basis weight of the paper decreased or as the size of the FSM increased. The closure method and placement of closures greatly affected machinability. Continuous glue lines were determined to be the optimal method of sealing a FSM. Use of a continuous glue line has been severely limited in the mailing industry, because the existing equipment used by many is not currently capable of producing continuous glue lines. As an alternative, the Postal Service introduced elongated glue lines (dashes) and patterns of glue spots to simulate glue lines. Testing also revealed that a one tab closure produces an insufficient seal, so we propose that two or more tabs be required depending on the design and total weight of the mailpiece. Other factors that affected automation compatibility were:

• Mailpiece thickness.

• Total piece weight.

• Fold orientation.

• Thickness of attachments or enclosures within a mailpiece.

• Flap size, style, and orientation.

• Number of panels.

Panels are created when sheets of paper are folded—each two-sided section created by folding is called a panel. The number of folds determines the number of panels within the mailpiece. In addition to these primary characteristics, the following optional design elements were also considered during testing:

• Loose inserts secured in pockets.

• Attachments to the interior and exterior of the mailpiece.

• Die-cut elements.

• Perforations.

The aggregate data generated from testing was analyzed using Lean Six Sigma (LSS) methodologies to develop a framework of potential minimum and maximum standards. The initial framework was based on optimized standards represented as 10 basic categories of FSMs. This framework was provided to the participants of the FSM study and meetings were conducted to begin the refinement process and develop a draft of proposed revised DMM standards. This collaborative process spanned six months. In addition to these meetings, the USPS reached out to others in the design and production segments of the industry to gain more specific knowledge and insight into their capabilities and needs. Based on participant feedback, the Postal Service restructured the original framework, aligned break-points, and crafted proposed standards beginning with a basic folded self-mailer profile. Additional optional creative elements were then incorporated to provide more design flexibility.

As the Postal Service worked through refinement of the initial proposed framework, built on Lean Six Sigma methodology, an attempt was made to find the balance between creativity and machinability that also allowed additional design options for FSM. The updated standards will be mutually beneficial.

A Folded Self-Mailer Reference Material document was developed as supporting information to this proposed rule. The document summarizes information of the proposed standards, includes illustrations that demonstrate some of the options for fold style, and includes closure methods and optional elements that may be incorporated into a basic folded self-mailer letter. The document can be found at: https://ribbs.usps.gov/index.cfm?page=FSM.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR Part 111.1.

List of Subjects in 39 CFR Part 111

Administrative practice and procedure, Postal Service.

Accordingly, 39 CFR Part 111 is proposed to be amended as follows:

PART 111—[AMENDED]

1. The authority citation for 39 CFR Part 111 is revised to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

200 Commercial Letters and Cards

201 Physical Standards

* * * * *

3.0 Physical Standards for Machinable and Automation Letters and Cards

* * * * *

3.14 Folded Self-Mailers

[Delete current text of 3.14 in its entirety and replace with the following:]

3.14.1 Definition

A folded self-mailer is formed of panels that are created when one or more unbound sheets of paper are folded together and sealed to make a letter-size mailpiece. The number of panels is determined by the number of sheets in the mailpiece and the number of times the sheets are folded.

3.14.2 Size

Folded self-mailers are:

a. Length: A minimum of 5 inches and a maximum of 10½ inches.

b. Height: A minimum of 3½ inches and a maximum of 6 inches.

c. Thickness: A minimum of 0.007 inch; (0.009 inch if the height exceeds 4¼ inches or if the length exceeds 6 inches); the maximum thickness is ¼ inch.

d. Maximum Weight: 3 ounces.

e. Rectangular, with four square corners and parallel opposite sides.

f. Within an aspect ratio (length divided by height) of 1.3 to 2.5, inclusive (see 601.1.4).

g. Maximum number of panels, bi-fold, tri-fold and oblongs: 8.

Exception: Quarter folded self-mailers made of a minimum of 100 lb book grade paper may have 4 panels and those made of 55 lb newsprint must have at least 8 panels and may contain up to 16 panels.

3.14.3 Panels

Panels are created when a sheet of paper is folded. When a folded self-mailer is made of multiple sheets, multiply the number of sheets by the number of panels created when folding a single sheet to determine the total number of panels. The following conditions apply:

a. Panels created by folding must be equal or nearly equal in size.

b. The final folded edge must be the bottom of a folded self-mailer unless prepared as an oblong. The final folded edge of an oblong folded self-mailer must be the leading (right) edge.

c. Shorter panels must be internal to the mailpiece, covered by a full-size panel, and count toward the maximum number of panels.

d. The final folded panel creates the back (non-address) side of the mailpiece. The open edge of the back panel must be at the top or within 1 inch of the top or trail (left) edge of the mailpiece.

e. Folding methods and the subsequent number of panels created when folding a single sheet of paper are:

1. Bi-fold: Folded once forming two panels.

2. Tri-fold: Folded twice forming three panels.

3. Oblong: Paper with one elongated dimension and parallel opposite sides folded once to form two rectangular panels. The final folded edge must be the leading (shorter) edge.

4. Quarter-fold: Folded two times with each fold at a right angle (perpendicular) to the preceding fold. One sheet of paper quarter-folded creates four panels.

f. Flaps are formed when an extended portion of the final panel is folded over an interior panel and affixed to the unaddressed side of the mailpiece and must meet the following conditions:

1. Flaps begin at the top of the mailpiece and end one inch or more above the bottom edge. Flaps must be at least 1½ inches long when measured from the top of the mailpiece.

2. Flaps must be secured with a seal as described in 3.14.4.

3. Die-cut shaped flaps are firmly secured with a tab, glue line, glue spots or elongated glue lines. A ⅛-inch wide continuous glue line that seals the contour of the die-cut is strongly recommended.

4. Flaps on oblong mailpieces are at least 5 inches long at the longest point when measured from the leading edge and end more than one inch from the trailing edge.

g. Flaps and pockets prepared within folded self-mailers to stabilize enclosures are not counted as panels.

3.14.4 Sealing Methods

Folded self-mailers may be sealed using tabs or glue under the following conditions:

a. Tabs. When tabs are used to seal FSMs, use non-perforated paper tabs to seal folded self-mailers. Tabs with a tear strength of 50 grams force (gf) machine 55gf cross direction are recommended. The size and number of tabs required is determined by the weight of the mailpiece and optional design elements as follows:

1. To seal all bi-fold and tri-fold self-mailers and quarter-folded self-mailers that weigh one ounce or less, affix one tab either on the top edge within one inch of the leading and one tab within one inch of the trailing edge or affix one tab on the leading and one tab on the trailing edges within one inch of the top.

2. To seal oblong folded self-mailers, affix two tabs in the center of the top and trailing edges or on the trailing edge within one inch of the top and bottom. Tabs may not be applied to the bottom of an oblong mailpiece.

3. To seal quarter-folded mailpieces that weigh more than one ounce and quarter-folded mailpieces made of newsprint, affix two tabs on the leading and trailing edges within 1 inch from the top, with one additional tab affixed on the lower leading edge ½ inch from the bottom (see 3.14.5).

b. Glue. The glue must be positioned within ¼ inch of the open edges and be placed opposite the final fold or on the leading and trailing edge when the final panel fold is on the bottom. Apply glue by one of the following methods:

1. Continuous glue lines at least ⅛-inch wide (0.125 inch).

2. Three or four glue spots at least ⅜ inch (0.375 inch) in diameter.

3. Three or four elongated glue lines. Seal folded self-mailers that weigh up to one ounce with lines at least ½-inch long. Seal folded self-mailers that weigh more than one ounce with glue lines either ⅛-inch wide and at least 1-inch long or ¼-inch wide and at least ½-inch long.

4. Glue spots and elongated glue lines should be distributed evenly along open edges.

5. Quarter-folded self-mailers must be sealed with tabs.

3.14.5 Paper Weight and Sealing Requirements

All references in 3.0 to paper basis weight are for book-grade paper unless otherwise stated (see 3.2). When multiple optional design elements are incorporated in a single mailpiece, the standards for the design element with the highest paper weight and corresponding sealing methods apply. Folded self-mailer paper weights and sealing methods are:

a. Basic bi-fold, tri-fold, and oblong folded self-mailers as described in 3.14.3:

1. Up to 1 ounce: 70 lb paper sealed with a continuous glue line, three glue spots; or elongated glue lines under 3.14.4b; or two 1-inch tabs under 3.14.4a1 and 3.14.4a2.

2. Over 1 ounce: 80 lb paper sealed with a continuous glue line, four glue spots; or four elongated glue lines under 3.14.4b; or two 1½-inch tabs under 3.14.4a1 and 3.14.4a2.

b. Basic quarter folded self-mailers as described in 3.14.3:

1. Up to 1 ounce: 70 lb paper sealed with two 1-inch tabs.

2. Over 1 ounce: 80 lb paper sealed with three 1½-inch tabs.

3. Newsprint: 55 lb minimum paper. Seal pieces with three 1½ inches tabs, see 3.14.4a3.

c. Optional Design Elements: Die-cut openings and perforated panes. Folded self-mailers with die cut openings in the exterior panels as described in 3.14.6 or perforated panes as described in 3.14.7 must meet the following:

1. Up to 1 ounce: 100 lb paper sealed with glue under 3.14.4b, or two 1½ inches tabs under 3.14.4a1 and 3.14.4a2.

2. Over 1 ounce: 120 lb paper sealed with glue under 3.14.4b, or two 2-inch tabs under 3.14.4a1 and 3.14.4a2 or three 1½ inches tabs under 3.14.4a3.

d. Optional Design Elements: Loose enclosures and attachments. For folded self-mailers that have loose enclosures as described in 3.14.8 or attachments as described in 3.14.9, the following applies:

1. Up to 1 ounce: 80 lb paper sealed with glue under 3.14.4b or two 1½ inches tabs under 3.14.4a1 and 3.14.4a2.

2. Over 1 ounce: 100 lb paper sealed with glue under 3.14.4b, or two 2-inch tabs under 3.14.4a1 and 3.14.4a2 or three 1½ inches tabs under 3.14.4a3.

3.14.6 Die Cut Elements

Folded self-mailers may be produced with two distinct types of die cut elements in the exterior panels: address windows or die-cut reveal openings used to draw attention to important information within the mailpiece. Die cut openings may not be used to create die cut punched holes (that exist in the same location on all layers and panels so that there is an opening through the entire mailpiece). Prepare die cut elements as follows:

a. Die cut address windows (used to convey address information) must conform to all standards for window envelopes under 601.6.4 and meet the following additional conditions:

1. Windows may be up to 2 inches high by 4 inches long.

2. When an address window appears on a mailpiece, no other die cut shapes may be made on the exterior panels.

b. Die cut reveal openings (used to reveal the contents of the mailpiece), are:

1. Limited to two on only one of the external panels.

2. Either circular with a 2-inch maximum diameter or rectangular and a maximum of 1½ inches high by 2 inches long with slightly rounded ¼ inch radius corners.

3. Placed at least 1½ inches from all edges of the mailpiece if on the addressed side.

4. Placed at least 5 inches from the leading edge and 1½ inches from all other edges if on the non-addressed side.

5. Positioned at least 1½ inches apart when two or more die cut openings are used.

c. A single ½ inch semi-circular die cut thumb notch, used in conjunction with an opening device, may be on the trailing edge of the addressed or nonaddressed outer panel.

3.14.7 Perforated Strips and Panes

Folded self-mailers may be prepared with strips or panes that are pulled open to reveal the contents. These design elements are placed on the unaddressed side of the mailpiece and may be rectangular, circular, or oval shaped. Perforations, a row of small holes punched in a sheet of paper so that a part can be torn easily, are used to create the openings. They may be pull-open strips, pop-out, or pop-open panes subject to the following prepared requirements:

a. Two perforated lines creating a pull open strip must be parallel and spaced at least ½ inch apart. Position perforated strips parallel to the height (the short side) of the mailpiece at least 5 inches from the leading and 2 inches from the trailing edge. Position perforated strips parallel to the length (the long side) of the mailpiece at least 1 inch from the top. Perforations have a 2mm cut (max)/4mm tie (min) ratio or a 3mm cut (max)/3mm tie (min) ratio.

b. Pop-out panes have perforations around the entire perimeter. The full perimeter of the pop-out is a maximum of 4 inches long by 4 inches high, and:

1. Have panes placed at least 1 inch from any edge.

2. Are 2mm cut (max)/2mm tie (min) ratio.

3. When using two panes, must be spaced at least 1 inch apart.

4. May not have any address elements appear in perforated openings.

c. Pop-open panes have perforations on three sides and meet the following conditions:

1. The full perimeter of the pull-open panel is a maximum of 4 inches long by 4 inches high.

2. If prepared with multiple panes, they must be spaced at least 1 inch apart.

3. Panes must be placed at least 1 inch from all edges.

4. Perforation patterns have 2 mm cut (max)/2 mm tie (min) ratio.

d. Perforated panes may not be on mailpieces with die-cut design elements or on any mailpiece made of newsprint.

3.14.8 Loose Enclosures

Loose enclosures included within a folded self-mailer must be made of paper under the following conditions:

a. Must be secured within a folded self-mailer to ensure containment and prevent excessive shift during processing.

b. May be inserted in an interior pocket or secured by any other method that prevents excessive shift during processing. Pockets are not counted as panels.

c. Enclosures are fully covered by the outer panels of the mailpiece.

d. Folded self-mailers with die-cut openings may contain enclosures if the inserted material is larger than the die cut opening.

e. Enclosed material does not exceed the maximum thickness of:

1. 0.05 inch thick for weights up to 1 ounce.

2. 0.09 inch thick for weights over 1 ounce.

3.14.9 Attachments

Attachments may be secured on the outside of a folded self-mailer under 3.13. Attachments may be secured within folded self-mailers under the following conditions:

a. The attachment is affixed to an inside panel and secured it at least ½ inch from any edge.

b. The attached material may not exceed a maximum thickness of:

1. 0.05 inch thick for weights up to 1 ounce.

2. 0.09 inch thick for weights over 1 ounce.

c. Multiple attachments must remain nearly uniform in thickness.

d. When multiple attachments are affixed to separate panels in stacked alignment, the combined thickness of the attachments must be equal to or less than the maximum thickness.

e. When multiple attachments are affixed adjacent to each other across the length of a mailpiece, the thickest attachment must be equal to or less than the maximum thickness.

f. Quarter-folded self-mailer may only have one internal attachment not exceeding 0.012 inch thick. The attachment must be secured at least 0.5 inch from all edges.

3.14.10 Addressing

Printing addresses in a center or left-justified position within the optical character reader (OCR) area under 2.1 is recommended when folded self-mailers are prepared with uncoated paper.

3.15 Unenveloped Mailpieces

3.15.1 Lunch-Bag Style

Lunch-bag style mailpieces consists of two symmetrical horizontal panels sealed together along top and bottom edges. Lunch-bag style mailpieces must meet the following conditions:

a. Join panels using ⅛ (0.125) inch continuous glue lines.

b. If flaps are used, they must be a minimum of at least 1½ inches wide and created as inner flaps adhered at the leading and trailing edges to the panel from which the flap is formed.

c. All paper weight and sealing requirements in 3.14.5c and 3.14.5d must be met.

3.15.2 Tear-Off Strips

When mailpieces have tear-off opening devices on the leading or trailing edge, the unfolded edges must be sealed with an adhesive (glue) or by a cohesive method. Unlike glue that will adhere to any surface, a cohesive seal requires two fixative patterns placed on top of each other to create a bond. The top-sealed edges may have a perforated horizontal line no lower than 9/16 (0.5625) inch from the top that joins the leading and trailing edge perforations. Mailpieces with sealed sides must meet the following conditions.

a. Tear off strips may be up to 9/16 inch (0.5625) wide.

b. Tear lines (single lines of perforations) on pieces that weigh one ounce or less, must be 1 mm cut (max)/1 mm tie (min) ratio.

c. Tear lines (single lines of perforations) on pieces that weigh more than one ounce must be 1 mm cut (max)/2 mm tie (min) ratio.

* * * * *

We will publish an appropriate amendment to 39 CFR part 111 to reflect these changes if our proposal is adopted.

Stanley F. Mires,
Chief Counsel, Legislative.

[FR Doc. 2011-20615 Filed 8-12-11; 8:45 am]

BILLING CODE 7710-12-P